Memorandum of October 1, 2002

Notification to the Congress of Trade Negotiations

Memorandum for the United States Trade Representative

You are authorized and directed to notify the Congress pursuant to section 2104(a)(1) of the Trade Act of 2002 (19 U.S.C. 3804(a)(1)), of my intention to enter into negotiations on a Free Trade Agreement with the Kingdom of Morocco and a Free Trade Agreement with Central American Countries. You are also authorized and directed to notify the Congress, pursuant to section 2106(b)(2) of the Trade Act of 2002 (19 U.S.C. 3806(b)(2)), of the ongoing negotiations on Free Trade Agreements with the Republic of Singapore and the Republic of Chile, negotiations to establish a Free Trade Area for the Americas, and negotiations under the auspices of the World Trade Organization.

You are authorized and directed to publish this memorandum in the Federal Register.

B

THE WHITE HOUSE,

Washington, October 1, 2002.

[FR Doc. 02-25368

Filed 10-2-02; 8:45 am]

Billing code 3190-01-M